CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of collection requirements on respondents can be properly assessed.

Currently, CNCS is soliciting comments concerning its proposed new application instructions for AmeriCorps Affiliate.

Brief description: Applicants for the AmeriCorps Affiliate program will submit an application following the application instructions. Completion of the information collection is required to be considered for Education Awards. No grant funding is available through AmeriCorps Affiliate.

Copies of the information collection request can be obtained by contacting the office listed in the ADDRESSES section of this Notice.

DATES: Written comments must be submitted to the individual and office listed in the ADDRESSES section by September 19, 2016.

ADDRESSES: You may submit comments, identified by the title of the information collection activity, by any of the following methods:

(1) By mail sent to: Corporation for National and Community Service, CPO Office; Attention Patti Stengel, Senior Program Officer for Grants and Initiatives, Room 3208B; 250 E St. SW., Washington, DC 20525.

(2) By hand delivery or by courier to the CNCS mailroom at Room 4200 at the mail address given in paragraph (1) above, between 9:00 a.m. and 4:00 p.m. Eastern Time, Monday through Friday, except Federal holidays.

(3) Electronically through www.regulations.gov.

Individuals who use a telecommunications device for the deaf (TTY-TDD) may call 1-800-833-3722 between 8:00 a.m. and 8:00 p.m. Eastern Time, Monday through Friday.

FOR FURTHER INFORMATION CONTACT: Patti Stengel, 202-606-6745, or by email at pstengel@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

Applicants for the AmeriCorps Affiliate program provide information through the use of the application instructions. Applicants use these application instructions to submit their application for Education Awards. This program provides only designations of positions as approved national service positions. CNCS may not award financial resources to applicants under this authority. The application information is collected electronically through the CNCS eGrants system.

Current Action

This is a new information collection request. This new information collection would allow for an open competition to be an AmeriCorps Affiliate sponsor.

There are no current approved application instructions for the AmeriCorps Affiliate program.

Type of Review: New.

Agency: Corporation for National and Community Service.

Title: AmeriCorps Affiliate Application Instructions.

OMB Number: None.

Agency Number: None.

Affected Public: The public affected are applicant organizations for AmeriCorps Affiliate.

Total Respondents: An estimated 20 organizations will respond each year.

Frequency: At most, the frequency is annual. Applications will be received and reviewed on a rolling basis up to three times each year. The AmeriCorps Affiliate competition will result in three year agreements. Applicants selected will also use these instructions to apply annually for continuation Education Awards.

Average Time per Response: Averages 10 hours.

Estimated Total Burden Hours: 200 hours.

Total Burden Cost (capital/startup): None.

Total Burden Cost (operating/maintenance): None.

Comments submitted in response to this notice will be summarized and/or included in the request for Office of Management and Budget approval of the information collection request; they will also become a matter of public record.

Dated: July 14, 2016.
Kim Mansaray,
Chief of Program Operations.

[FR Doc. 2016-17048 Filed 7-18-16; 8:45 am]

BILLING CODE 6050-28-P